DEPARTMENT OF THE INTERIOR

Bureau of Land Management

[NV-050-5853-ES; N-78796, N-80170, N-80171, N-80172, N-80173, and N-81374; 8-08807; TAS: 14X5232]

Notice of Realty Action: Lease/Conveyance for Recreation and Public Purposes in Clark County, NV

AGENCY: Bureau of Land Management, Interior.

ACTION: Notice.

SUMMARY: Recreation and Public Purposes (R&PP) Act request for lease and subsequent conveyance of approximately 230.26 acres of public land in Las Vegas, Clark County, Nevada. Clark County proposes to use the land as six public parks.

DATES: Interested parties may submit written comments regarding the proposed lease/conveyance of the lands until April 28, 2008.

ADDRESSES: Mail written comments to the BLM Field Manager, Las Vegas Field Office, 4701 N. Torrey Pines Drive, Las Vegas, NV 89130-2301.

FOR FURTHER INFORMATION CONTACT: Brenda Warner, (702) 515-5084.

SUPPLEMENTARY INFORMATION: The following described public land in Clark County, Nevada has been examined and found suitable for lease and subsequent conveyance for recreational or public purposes under the provisions of the R&PP Act, as amended (43 U.S.C. 869 et seq.). These six parcels of land are in the Las Vegas Valley and are legally described as:

Mount Diablo Meridian, Nevada

N-78796 (76.49 Acres)

T. 21 S., R. 60 E.,

Sec. 24, within S½SE¼.

General Location: Central part of the Las Vegas Valley northwest of the intersection of Tropicana Avenue and Decatur Boulevard.

N-80170 (15 Acres)

T. 22 S., R. 60 E.,

Sec. 34, E½SW¼SW¼NE¼, SE¼SW¼NE¼.

General Location: Southwestern part of the Las Vegas Valley northeast of the intersection of Erie Avenue and Tenaya Way.

N-80171 (20 Acres)

T. 22 S., R. 60 E.,

Sec. 27, N½SE¼NE¼.

General Location: Southwestern part of the Las Vegas Valley southwest of the intersection of Le Baron Avenue and Rainbow Boulevard.

N-80172 (15 Acres)

T. 22 S., R. 60 E.,

Sec. 21, S½NE¼NE¼SW¼, SE¼NW¼NE¼SW¼, NE¼SW¼NE¼SW¼, N½SE¼NE¼SW¼.

General Location: Southwestern part of the Las Vegas Valley southwest of the intersection of Serene Avenue and Cimarron Road.

N-80173 (20 Acres)

T. 22 S., R. 60 E.,

Sec. 29, S½NE¼SW¼NE¼, N½SE¼SW¼NE¼, S½NW¼SE¼NE¼, N½SW¼SE¼NE¼.

General Location: Southwestern part of the Las Vegas Valley northwest of the intersection of Durango Drive and Mountains Edge Parkway.

N-81374 (83.77 Acres)

T. 23 S., R. 61 E.,

Sec. 06, Lots 3 and 4;

Sec. 31, S½SW¼SW¼SW¼, S½SW¼SE¼SW¼SW¼, S½SE¼SE¼SW¼SW¼.

General Location: Southern part of the Las Vegas Valley southeast of the intersection of Decatur Boulevard and Starr Hills Avenue.

The areas described contain 230.26 acres, more or less.

Clark County has filed R&PP applications to develop the above described land as six public parks. Additional detailed information pertaining to this application, plan of development, and site plan are in the case files, which are located in the Bureau of Land Management (BLM) Las Vegas Field Office.

Clark County is a political subdivision of the State of Nevada and is therefore a qualified applicant under the R&PP Act. The land is not required for any Federal purpose. The lease/conveyance is consistent with the BLM Las Vegas Resource Management Plan, dated October 5, 1998, and would be in the public interest. The plans of development have been reviewed and it is determined the proposed action conforms with land use plan decision, LD-1, established in accordance with section 202 of the Federal Land Policy and Management Act, as amended (43 U.S.C. 1712). The lease/conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

The lease/conveyance will be subject to:

(1) Valid existing rights;

(2) N-78796:

(a) A right-of-way for an electrical transmission line granted to Nevada Power Company, its successors or assigns, by right-of-way N-02557, pursuant to the Act of October 21, 1976, 090 Stat. 2776, 43 U.S.C. 1761;

(b) A right-of-way for a natural gas pipeline granted to the Southwest Gas Corporation, its successors or assigns, by right-of-way N-24159, pursuant to the Act of February 25, 1920, 041 Stat. 0437, 30 U.S.C. 185 Sec. 28;

(c) A right-of-way for a detention basin and public roadway granted to Clark County, its successors or assigns, by right-of-way N-55083, pursuant to the Act of October 21, 1976, 090 Stat. 2776, 43 U.S.C. 1761.

(3) N-80170:

(a) A right-of-way for a sewer system granted to the Clark County Water Reclamation District, its successors or assigns, by right-of-way N-77199, pursuant to the Act of October 21, 1976, 090 Stat. 2776, 43 U.S.C. 1761;

(b) A right-of-way for a water distribution system granted to the Las Vegas Valley Water District, its successors or assigns, by right-of-way N-77507, pursuant to the Act of October 21, 1976, 090 Stat. 2776, 43 U.S.C. 1761;

(c) A right-of-way for a telephone line granted to the Central Telephone Company, its successors or assigns, by right-of-way N-77554, pursuant to the Act of October 21, 1976, 090 Stat. 2776, 43 U.S.C. 1761;

(d) A right-of-way for a fiber optic facility granted to Cox Communications, its successors or assigns, by right-of-way N-77555, pursuant to the Act of October 21, 1976, 090 Stat. 2776, 43 U.S.C. 1761;

(e) A right-of-way for an electrical transmission line granted to the Nevada Power Company, its successors or assigns, by right-of-way N-77845, pursuant to the Act of October 21, 1976, 090 Stat. 2776, 43 U.S.C. 1761; and

(f) A right-of-way for a natural gas pipeline granted to the Southwest Gas Corporation, its successors or assigns, by right-of-way N-77953, pursuant to the Act of February 25, 1920, 041 Stat. 0437, 30 U.S.C. 185 Sec. 28.

(4) N-80171:

(a) A right-of-way for a sewer system granted to the Clark County Water Reclamation District, its successors or assigns, by right-of-way N-75689, pursuant to the Act of October 21, 1976, 090 Stat. 2776, 43 U.S.C. 1761;

(b) A right-of-way for a sewer system granted to the Clark County Water Reclamation District, its successors or assigns, by right-of-way N-77199, pursuant to the Act of October 21, 1976, 090 Stat. 2776, 43 U.S.C. 1761;

(c) A right-of-way for a water distribution system granted to the Las Vegas Valley Water District, its successors or assigns, by right-of-way N-77507, pursuant to the Act of October 21, 1976, 090 Stat. 2776, 43 U.S.C. 1761;

(d) A right-of-way for a telephone line granted to the Central Telephone Company, its successors or assigns, by right-of-way N-77554, pursuant to the Act of October 21, 1976, 090 Stat. 2776, 43 U.S.C. 1761;

(e) A right-of-way for a fiber optic facility granted to Cox Communications, its successors or assigns, by right-of-way N-77555, pursuant to the Act of October 21, 1976, 090 Stat. 2776, 43 U.S.C. 1761;

(f) A right-of-way for an electrical transmission line granted to the Nevada Power Company, its successors or assigns, by right-of-way N-77676, pursuant to the Act of October 21, 1976, 090 Stat. 2776, 43 U.S.C. 1761;

(g) A right-of-way for a fiber optic communication line granted to the Nevada Power Company, its successors or assigns, by right-of-way N-77677, pursuant to the Act of October 21, 1976, 090 Stat. 2776, 43 U.S.C. 1761;

(h) A right-of-way for an electrical transmission line granted to the Nevada Power Company, its successors or assigns, by right-of-way N-77845, pursuant to the Act of October 21, 1976, 090 Stat. 2776, 43 U.S.C. 1761;

(i) A right-of-way for a natural gas pipeline granted to Southwest Gas Corporation, its successors or assigns, by right-of-way N-77953, pursuant to the Act of February 25, 1920, 041 Stat. 0437, 30 U.S.C. 185 Sec. 28;

(j) A right-of-way for a sewer line granted to the Clark County Water Reclamation District, its successors or assigns, by right-of-way N-80660, pursuant to the Act of October 21, 1976, 090 Stat. 2776, 43 U.S.C. 1761; and

(k) A right-of-way for an electrical transmission line granted to the Valley Electric Association, its successors or assigns, by right-of-way Nev-059100, pursuant to the Act of October 21, 1976, 090 Stat. 2776, 43 U.S.C. 1761.

(5) N-80172:

(a) A right-of-way for a sewer system granted to the Clark County Water Reclamation District, its successors or assigns, by right-of-way N-77199, pursuant to the Act of October 21, 1976, 090 Stat. 2776, 43 U.S.C. 1761;

(b) A right-of-way for a water distribution system granted to the Las Vegas Valley Water District, its successors or assigns, by right-of-way N-77507, pursuant to the Act of October 21, 1976, 090 Stat. 2776, 43 U.S.C. 1761;

(c) A right-of-way for a telephone line granted to the Central Telephone Company, its successors or assigns, by right-of-way N-77554, pursuant to the Act of October 21, 1976, 090 Stat. 2776, 43 U.S.C. 1761;

(d) A right-of-way for a fiber optic facility granted to Cox Communications, its successors or assigns, by right-of-way N-77555, pursuant to the Act of October 21, 1976, 090 Stat. 2776, 43 U.S.C. 1761;

(e) A right-of-way for an electrical transmission line granted to the Nevada Power Company, its successors or assigns, by right-of-way N-77845, pursuant to the Act of October 21, 1976, 090 Stat. 2776, 43 U.S.C. 1761;

(f) A right-of-way for an underground water pipeline granted to the Las Vegas Valley Water District, its successors or assigns, by right-of-way N-77998, pursuant to the Act of October 21, 1976, 090 Stat. 2776, 43 U.S.C. 1761;

(g) A right-of-way for a sewer main granted to the Clark County Water Reclamation District, its successors or assigns, by right-of-way N-77999, pursuant to the Act of October 21, 1976, 090 Stat. 2776, 43 U.S.C. 1761;

(h) A right-of-way for a fiber optic facility granted to Cox Communications, its successors or assigns, by right-of-way N-79655, pursuant to the Act of October 21, 1976, 090 Stat. 2776, 43 U.S.C. 1761;

(i) A right-of-way for a natural gas pipeline granted to the Southwest Gas Corporation, its successors or assigns, by right-of-way N-79659, pursuant to the Act of February 25, 1920, 041 Stat. 0437, 30 U.S.C. 185 Sec. 28;

(j) A right-of-way for a telephone line granted to the Central Telephone Company, its successors or assigns, by right-of-way N-79829, pursuant to the Act of October 21, 1976, 090 Stat. 2776, 43 U.S.C. 1761;

(k) A right-of-way for a sewer line granted to the Clark County Water Reclamation District, its successors or assigns, by right-of-way N-79832, pursuant to the Act of October 21, 1976, 090 Stat. 2776, 43 U.S.C. 1761; and

(l) A right-of-way for an electrical power line granted to the Nevada Power Company, its successors or assigns, by right-of-way N-80069, pursuant to the Act of October 21, 1976, 090 Stat. 2776, 43 U.S.C. 1761.

(6) N-80173: a right-of-way for an electrical transmission line granted to the Nevada Power Company, its successors or assigns, by right-of-way N-58888, pursuant to the Act of October 21, 1976, 090 Stat. 2776, 43 U.S.C. 1761.

(7) N-81374: no encumbering rights-of-way.

Upon publication of this notice in the Federal Register, the land described above will be segregated from all other forms of appropriation under the public land laws, including the general mining laws, except for lease and subsequent conveyance under the R&PP Act, leasing under the mineral leasing laws, and disposals under the mineral material disposal laws.

Interested parties may submit written comments regarding the specific use proposed in the application and plan of development, whether BLM followed proper administrative procedures in reaching the decision to lease/convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Las Vegas Field Office, will be considered properly filed. Electronic mail, facsimile, or telephone comments will not be considered properly filed.

Any adverse comments will be reviewed by the BLM Nevada State Director, who may sustain, vacate, or modify this realty action. In the absence of any adverse comments, this realty action will become the final determination of the Department of the Interior and will become effective on May 12, 2008. The lands will not be available for lease/conveyance until after the decision becomes effective.

(Authority: 43 CFR 2741.5)

Dated: March 6, 2008.
Kimber Liebhauser,
Assistant Field Manager, Division of Lands.

[FR Doc. E8-5018 Filed 3-12-08; 8:45 am]

BILLING CODE 4310-HC-P